DEPARTMENT OF JUSTICE

Notice of Lodging of Consent Decree Under the Comprehensive Environmental Response, Compensation and Liability Act

Notice if hereby given that on May 3, 2000, a proposed Consent Decree in United States v. Cedar Wood Apartments, Inc. et al, Civil Action No. 00-C-2451, was lodged with the United States District Court for the Northern District of Illinois.

This consent decree represents a settlement of claims brought against the following twenty-four defendants under section 107 of CERCLA, 42 U.S.C. 9607, for the recovery of costs incurred by the United States in responding to the release or threatened release of hazardous substances at and from the Tri-County/Elgin Landfill Superfund Site in Elgin, Illinois: Cedar Woods Apartments, Inc.; Clarence Davids & Company; Eaton's Red Wood Inn; Elgin Academy; Elgin Public School District 46; Elgin Rehabilitation Center; Elgin Turners; The Famous Chili Pub, Ltd.; Genoa-Kingston Community Unit School District #424; Golf Rose Animal Hospital; Hamphire Grade School and Hampshire High School (Community Unit School District 300); Hiawatha Public School; Jewel Food Stores; Judson College; Olde Towne Animal Hospital; Pal Joey's Restaurant and Lounge; Rand Grove Partnership, an Illinois Partnership (owner and operator of Rand Grove Village Apartments); Red Lobster Inns of America, Inc. (n/k/a/ GMRI, Inc.), a Florida Corporation; West Chicago School District #33; St. Joseph Hospital; Town & Country Gardens; Vavrus & Associates; Village of Carol Stream; and Village Squire.

The United States Postal Service is also a party to the proposed Consent Decree. Through the Consent Decree, the United States Postal Service would resolve potential contribution claims that may be asserted against the United States due to alleged liability on behalf of the United States Postal Service.

Under the proposed settlement, the defendants and the United States Postal Service will collectively pay $168,069.42.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Cedar Wood Apartments, Inc. et al, D.J. Ref. 90-11-3-1088/2.

The Consent Decree may be examined at the office of the United States Environmental Protection Agency, Region 5, 77 West Jackson Boulevard, Chicago, Illinois. A copy of the Consent Decree may also be obtained by mail from the Consent Decree Library, P.O. Box 7611, U.S. Department of Justice, Washington, DC 20044-7611. In requesting a copy, please enclose a check in the amount of $13.00 (25 cents per page reproduction cost, 52 pages) payable to the Consent Decree Library.

Joel M. Gross,
Chief, Environmental Enforcement Section, Environment and Natural Resources Division.

[FR Doc. 00-12733 Filed 5-19-00; 8:45 am]

BILLING CODE 4410-15-M